DEPARTMENT OF COMMERCE

International Trade Administration

United States Travel and Tourism Advisory Board; Meeting

AGENCY: International Trade Administration, U.S. Department of Commerce.

ACTION: Notice of an open meeting.

SUMMARY: This notice sets forth the schedule and agenda for an open meeting of the United States Travel and Tourism Advisory Board (Board). The Board will meet to present updates on the work of its subcommittees and hear briefings from representatives of the U.S. government on the implementation of the National Travel and Tourism Strategy and the progress on implementing the President's Executive Order 13597 on travel and tourism. The agenda may change to accommodate Board business. The final agenda will be posted on the Department of Commerce Web site for the Board at http://tinet.ita.doc.gov/TTAB/TTAB_Home.html, at least one week in advance of the meeting.

DATES: October 2, 2012 2 p.m.-4 p.m. Eastern Daylight Time (EDT).

ADDRESSES: The U.S. Department of Commerce, 1401 Constitution Avenue NW., Room 4830, Washington, DC 20230.

FOR FURTHER INFORMATION CONTACT: Jennifer Pilat, the United States Travel and Tourism Advisory Board, Room 4043, 1401 Constitution Avenue NW., Washington, DC 20230, telephone: 202-482-4501, email: jennifer.pilat@trade.gov.

SUPPLEMENTARY INFORMATION: Agenda: At the meeting, the Board will hear updates from its four subcommittees on travel facilitation, business climate, infrastructure and sustainability and advocacy.

Background: The Board was re-chartered in August 2011, to advise the Secretary of Commerce on matters relating to the U.S. travel and tourism industry.

Public Participation: The meeting will be open to the public and will be physically accessible to people with disabilities. All guests are requested to register in advance. Seating is limited and will be on a first come, first served basis. Requests for sign language interpretation, other auxiliary aids, or pre-registration, should be submitted no later than 5 p.m. EDT on September 25, 2012 to Jennifer Pilat, the U.S. Travel and Tourism Advisory Board, Room 4043, 1401 Constitution Avenue NW., Washington, DC 20230, telephone 202-482-4501, OACIE@trade.gov. Last minute requests will be accepted, but may be impossible to fill.

No time will be available for oral comments from members of the public attending the meeting. Any member of the public may submit pertinent written comments concerning the Board's affairs at any time before or after the meeting. Comments may be submitted to Jennifer Pilat at the contact information indicated above.

To be considered during the meeting, comments must be received no later than 5 p.m. EDT on September 25, 2012, to ensure transmission to the Board prior to the meeting. Comments received after that date will be distributed to the members but may not be considered at the meeting.

Copies of Board meeting minutes will be available within 90 days of the meeting.

Dated: September 10, 2012.
Jennifer Pilat,
Executive Secretary, United States Travel and Tourism Advisory Board.

[FR Doc. 2012-22731 Filed 9-13-12; 8:45 am]

BILLING CODE 3510-DR-P